DEPARTMENT OF ENERGY

Federal Energy Regulatory Commission

[Docket No. AD20-11-000]

Extension of Non-Statutory Deadlines; Supplemental Notice Waiving Regulations

On April 2, 2020, the Secretary of the Commission (Secretary) issued a notice granting, among other things, waiver through May 1, 2020 of the Commission's regulations that govern the form of filings submitted to the Commission to the extent entities are unable to meet those requirements due to the emergency conditions caused by Novel Coronavirus Disease (COVID-19). On May 8, 2020, the Secretary waived through September 1, 2020, the Commission's regulations that require that filings with the Commission be notarized or supported by sworn declarations.

Given the ongoing emergency conditions caused by COVID-19, there is good cause to waive through and including January 29, 2021,¹ the Commission's regulations that require that filings with the Commission be notarized or supported by sworn declarations.²

¹ See also Temporary Action to Facilitate Social Distancing, 172 FERC ¶ 61,151 (2020) (waiving notarization requirements through January 29, 2021, contained in any tariff, rate schedule, service agreement, or contract subject to the Commission's jurisdiction under the Federal Power Act, the Natural Gas Act, or the Interstate Commerce Act).

² For example, Commission regulations require certain filings with the Commission be supported by a sworn declaration, and we recognize that steps an entity has taken to address the coronavirus may prevent the filing from containing such a declaration. See, e.g., 18 CFR 45.7 (2019).

Dated: August 20, 2020.
Kimberly D. Bose,
Secretary.

[FR Doc. 2020-18736 Filed 8-25-20; 8:45 am]

BILLING CODE 6717-01-P